NUCLEAR REGULATORY COMMISSION

10 CFR Part 72

[NRC-2025-0064]

Interim Enforcement Policy for Enforcement Discretion for General Licensee Adoption of Certificate of Compliance Holder-Generated Changes

AGENCY: Nuclear Regulatory Commission.

ACTION: Policy statement; issuance.

SUMMARY: The U.S. Nuclear Regulatory Commission (NRC) is issuing an Interim Enforcement Policy (IEP) titled, “Enforcement Discretion for General Licensee Adoption of CoC Holder-Generated Changes.” This IEP allows enforcement discretion for certain general licensee violations related to their adoption of a change generated by the Certificate of Compliance holder.

DATES: The policy statement is effective on August 15, 2025.

ADDRESSES: Please refer to Docket ID NRC-2025-0064 when contacting the NRC about the availability of information for this action. You may obtain publicly available information related to this action by any of the following methods:

• Federal Rulemaking Website: Go to https://www.regulations.gov and search for Docket ID NRC-2025-0064. Address questions about NRC dockets to Helen Chang; telephone: 301-415-3228; email: Helen.Chang@nrc.gov. For technical questions contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Gerond A. George, Office of Nuclear Material Safety and Safeguards, telephone: 301-415-3882, email: Gerond.George@nrc.gov, U.S. Nuclear Regulatory Commission, Washington, DC 20555-0001.

SUPPLEMENTARY INFORMATION:

I. Background

The Certificate of Compliance (CoC or certificate) is the NRC approved design for each dry cask storage system. Title 10 of the Code of Federal Regulations (10 CFR) 72.48, “Changes, tests, and experiments,” establishes the conditions under which a general or specific licensee, and a spent fuel storage cask certificate holder may make changes to their independent spent fuel storage installation (ISFSI) or monitored retrievable storage installation facility (MRS), spent fuel storage cask design, or procedures, and under which they may conduct tests or experiments, without prior NRC approval. In addition to the 10 CFR 72.48 change review process, paragraph (b)(7) of 10 CFR 72.212, “Conditions of general license issued under 10 CFR 72.210,” also requires the general licensee to evaluate any changes to written evaluations required by paragraphs (b)(5) and (6) of 10 CFR 72.212, using the requirements of 10 CFR 72.48(c). Moreover, there are various provisions in 10 CFR 72.212, such as paragraphs (a)(2), (b)(3), (b)(5)(i), and (b)(11), that require general licensees to ensure they use casks that conform to the terms, conditions and specifications of a CoC listed in 10 CFR 72.214, “List of approved spent fuel storage casks.”

Therefore, if a general licensee wishes to adopt a change initiated by the CoC holder under the CoC holder's 10 CFR 72.48 change authority, the general licensee must perform a separate 10 CFR 72.48 review as required by the regulations. Additionally, if a general licensee adopts a CoC holder's change made under 10 CFR 72.48 and that change is later determined to be noncompliant, the general licensee would also be in noncompliance with provisions of 10 CFR 72.48 and 10 CFR 72.212.

The NRC is implementing a more efficient process in which the staff addresses CoC holders' apparent violations of the 10 CFR 72.48 change control process without pursuing an enforcement action against the general licensee for an apparent violation that is strictly due to the general licensee's adoption of a noncompliant change made under § 72.48 by the CoC holder. The NRC is also implementing a more efficient process for general licensees to review and adopt changes made by a CoC holder, pursuant to the CoC holder's § 72.48 change authority, as long as the general licensee does not need to make any site-specific technical changes. Accordingly, the staff is considering rulemaking, including potential interpretation of the applicable regulations, and revision of the implementation guidance.

II. Discussion

A. Rulemaking

The NRC published a final rule on October 4, 1999 (64 FR 53582) that revised 10 CFR 72.48 to clarify the specific types of changes, tests, and experiments conducted at a licensed facility or by a certificate holder that require evaluation, and revised the criteria that licensees and certificate holders must use to determine when NRC approval is needed before such changes, tests, or experiments can be implemented. The Commission approved the publication of the final rule in SECY-99-130, “Final Rule—Revisions to Requirements of 10 CFR parts 50 and 72 Concerning Changes, Tests, and Experiments.”

The preamble to the final rule for 10 CFR 50.59 and 10 CFR 72.48 stated the following in Section O.1, “Part 72 Changes,” provided on page 53601: “The Commission envisioned that a general licensee who wants to adopt a change to the design of a spent fuel storage cask it possesses—which change was previously made to the generic design by the certificate holder under the provisions of § 72.48—would be required to perform a separate evaluation under the provisions of § 72.48 to determine the suitability of the change for itself.” As indicated by the rule and supported by the preamble, both the CoC holder and general licensee are required to perform an evaluation when implementing a change made by a CoC holder pursuant to § 72.48.

The NRC staff may request that the Commission revise its regulations or interpretation of existing regulations to establish that CoC holders and general licensees have different obligations. The NRC staff may seek this change because both entities have separate quality assurance programs, and the NRC staff performs inspections of each change control process on a regular basis, which would provide reasonable assurance of safety and increase regulatory efficiency. Specifically, the efficiency will be realized by streamlining the inspections associated with the evaluation of the changes to focus (1) on CoC holders and (2) on general licensees only to the extent the general licensees make site-specific, technical changes.

B. Summary

This IEP allows staff to exercise enforcement discretion for certain general licensee violations of 10 CFR 72.48 and 10 CFR 72.212 related to the general licensee's adoption of a CoC holder-generated modification. This IEP also allows for better efficiency and reliability of spent fuel storage cask inspection oversight, while still providing adequate protection of public health and safety. The NRC is issuing this IEP due to the NRC's operational experience with its inspection and oversight of general licensees' adoption of CoC holders' § 72.48 changes. Certificate holders are NRC-regulated entities that are required to (1) ensure their storage casks meet NRC requirements and the Certificate of Compliance and (2) perform design changes in accordance with § 72.48; the NRC inspects their processes. In addition, the NRC recognizes that a general licensee who wants to adopt a change to the design of a spent fuel storage cask it possesses—where the change was previously made by the certificate holder under the provisions of § 72.48—must perform a review of that change for their site under a variety of other processes other than § 72.48, including those set forth in paragraphs (b)(5) and (6) of § 72.212, and in the general licensee quality assurance program. The combination of these review and oversight processes, together with other existing inspection and oversight processes, provide confidence that the general licensee has appropriately considered changes made by CoC holders and appropriately evaluated the potential safety implications of implementing those

changes at its site. For these reasons, the NRC determined that this IEP continues to provide adequate protection of public health and safety while enabling the safe and secure use of civilian nuclear energy technologies. This approach also aligns with the NRC's mission statement and the Principles of Good Regulation.

Following issuance of the IEP, the NRC will explore a rulemaking solution to eliminate the requirement that a GL must always perform a 10 CFR part 72.48 evaluation when adopting CoC holder-generated changes. The NRC plans to review the regulations in 10 CFR part 72 and guidance documents to determine whether rulemaking, including potential interpretation of the applicable regulations, and/or revising guidance is needed to clarify the requirements in 10 CFR part 72.

III. Summary of Public Comments on Draft Interim Enforcement Policy

The NRC published a draft version of the IEP in the Federal Register on April 7, 2025 (90 FR 14917). The public comment period closed on April 28, 2025. The NRC received public comment submissions from the Nuclear Energy Institute (NEI) and the Decommissioning Plant Coalition (DPC). Both are generally supportive of prompt issuance of the IEP. The NEI provided four comments (identified as comments 1-1 through 1-4). The DPC provided three comments (identified as comments 2-1 through 2-3). These comments are summarized in the following paragraphs, including the NRC's resolution of the comments, and a summary of how the NRC revised the IEP, as applicable.

In comment 1-1, the NEI commented that the IEP reaches the correct conclusion about how 10 CFR 72.48 should be applied to general licensees. The NEI agreed with the position articulated with the IEP's method of addressing apparent violations of the 10 CFR 72.48 change control process by a CoC holder, without pursuing separate enforcement actions against general licensees for alleged violations of § 72.48 that are due to the general licensee's adoption of a noncompliant change made by the CoC holder.

The NRC agrees with comment 1-1. The NRC did not make any changes to the final IEP based on this comment.

In comment 1-2, the NEI commented that the approach for applying § 72.48 to general licensees described in the IEP is not new. As the NEI explained in its comments on EGM 25-001, the NEI stated that the position reflected in the IEP is the approach that has been endorsed by the NRC, also reflected in the relevant NRC inspection procedure, and consistently followed by the industry for the past 24 years. The NEI added that the IEP takes the position that the approach prescribed in NEI 12-04 and Appendix B to NEI 96-07 for adoption of CoC holder changes by general licensees—and which the NRC “seeks to implement” under the IEP—is inconsistent with the requirements of § 72.48. Thus, the NEI concludes that the draft IEP seems to reach the conclusion that the NRC has endorsed a method of compliance for nearly two-and-a-half decades that, in fact, violates § 72.48.

The NRC disagrees with comment 1-2 that the NRC endorsed a method of compliance that violates § 72.48. The NRC continues to endorse the industry guidance for implementing § 72.48 as provided in the NRC's Guidance for Implementation of 10 CFR 72.48, “Changes, Tests, and Experiments,” Regulatory Guide 3.72, Revision 1, and the NRC continues to inspect in accordance with that endorsement. The NRC disagrees that the endorsed guidance (or NRC's implementation of it) removed general licensees' responsibility under § 72.48 for noncompliances that are due to the adoption of a noncompliant change made by the CoC holder. The NRC did not make any changes to the final IEP based on this comment.

In comment 1-3, the NEI commented that it endorsed continued adherence to the approach provided in NEI 12-04, and that the position in the IEP does not compel changes to § 72.48. The NEI added that the interpretation of the general licensee's responsibilities in this situation provided in NEI 12-04 and endorsed by the NRC in Regulatory Guide 3.72 is a reasonable interpretation of the text of § 72.48 and is consistent with the overall general licensing framework established in 10 CFR part 72. Further, the NEI added that the IEP points to language in the preamble of the 1999 final rule promulgating 10 CFR 72.48 to support its interpretation, but, according to the NEI, the Commission did not articulate what the “separate evaluation” a general licensee was to use to “determine the suitability of the [CoC holder's] change for itself” should entail. The NEI further commented that the NRC endorsed Appendix B to NEI 96-07 in Regulatory Guide 3.72, which appropriately provided the necessary clarity on this issue, incorporating a rational approach that a general licensee's review of changes incorporated by a CoC holder focused on the site-specific impacts of such changes.

The NRC disagrees in part with comment 1-3. As noted above, the NRC continues to endorse the industry guidance for implementing § 72.48 as provided in Regulatory Guide 3.72, Revision 1. NRC agrees with the NEI about the regulatory benefit of focusing a general licensee's review of changes incorporated by a CoC holder on the site-specific impacts of such changes; the NRC is pursuing the IEP in order to better facilitate that approach. However, NRC disagrees that the endorsed guidance and regulatory history supports the NEI's interpretation of the current regulatory requirement. Nevertheless, the NEI's description of the existing guidance highlights an opportunity for additional clarity in this IEP. Therefore, the NRC updated paragraphs (4) and (5) of the IEP to further clarify the general licensees' responsibilities for complying with 10 CFR 72.212 (b)(5), (b)(6), and (b)(7), when either initiating a change or adopting a CoC-holder change that leads to a site-specific, technical change.

In comment 1-4, the NEI commented that the NRC's subsequent endorsement of NEI 12-04 specifically addressed consistency with the preamble of the 1999 final rule. The comment further asserts that the NRC consistently interpreted the 10 CFR 72.48 regulation as allowing the approach suggested as the desired resolution path in the IEP.

The NRC partially agrees with comment 1-4 that the NRC's endorsement of NEI 12-04 addressed consistency with the preamble of the 1999 final rule. However, as noted above, the NRC disagrees that the endorsement of industry guidance removed general licensees' responsibility for noncompliances that are due to the adoption of a noncompliant change made by the CoC holder. This is the subject of the IEP. The NRC did not make any changes to the IEP based on this comment.

In comment 2-1, the DPC commented that it is imperative the staff perform a specific review of the regulation that led to the use of this policy and any subsequent enforcement policies at ISFSIs under Commission direction and produce a plan to change regulations governing issues that have such negligible safety significance that led to its use. The DPC further commented that this direction/commitment should be included in the final IEP.

The NRC disagrees with comment 2-1 with respect to including a commitment to explore rulemaking in the IEP, as the IEP is not the appropriate document to reach a conclusion on pursuing rulemaking. The NRC did not make any changes to the IEP based on this comment.

In comment 2-2, the DPC believes the NRC staff is communicating that there needs to be a change to the current method of making licensee changes to certificates of compliance and ISFSI operations. The DPC recommended changing ISFSI regulations to mirror 10 CFR 50.59.

The NRC determined that comment 2-2 was outside the scope of the IEP. The IEP establishes an enforcement policy concerning general licensees' adoption of noncompliant changes made by CoC holders under § 72.48. A broader regulatory review of 10 CFR part 72 is beyond the scope of this IEP. The NRC did not make any changes to the IEP based on this comment.

In comment 2-3, the DPC commented that the underlying violations that will be given discretion have minimal safety significance, and suggested this may be a new interpretation of regulations and endorsed industry guidance.

The NRC disagrees with comment 2-3. The NRC has not changed its interpretation of the regulations or the endorsed industry guidance. The IEP provides for an efficient approach for dispositioning a specific set of noncompliant changes made under § 72.48. The NRC expects CoC holders and GLs to maintain current § 72.48 processes and quality assurance programs to correct nonconformances. The NRC did not make any changes to the IEP based on this comment.

IV. Clarifications Made to the Final Interim Enforcement Policy

After the NRC published the aforementioned draft version of the IEP in the Federal Register, because of public comments, it recognized that the IEP needed more clarity for the responsibilities of general licensees when initiating changes or when adopting CoC holder changes made under 10 CFR 72.48 that lead to a site-specific, technical change. The NRC updated paragraphs (4) and (5) of the IEP to further clarify the general licensees' responsibilities for compliance with 10 CFR 72.212 (b)(5), (b)(6), and (b)(7), when either initiating a change or adopting a CoC holder change that leads to a site-specific, technical change.

V. Paperwork Reduction Act

This policy statement does not contain any new or amended collections of information subject to the Paperwork Reduction Act of 1995 (44 U.S.C. 3501 et seq.). Existing collections of information were approved by the Office of Management and Budget (OMB), approval numbers 3150-0132 and 3150-0136.

Public Protection Notification

The NRC may not conduct or sponsor, and a person is not required to respond to, a collection of information unless the document requesting or requiring the collection displays a currently valid OMB control number.

VI. Regulatory Planning and Review

Executive Order (E.O.) 12866, as amended by E.O 14215, provides that the Office of Information and Regulatory Affairs (OIRA) will determine whether a regulatory action is significant as defined by E.O. 12866 and will review significant regulatory actions. OIRA has determined that this action is not a significant regulatory under E.O. 12866.

VII. Congressional Review Act

This final rule is a rule as defined in the Congressional Review Act (5 U.S.C. 801-808). However, the Office of Management and Budget has not found it to be a major rule as defined in the Congressional Review Act.

VIII. Availability of Documents

The documents identified in the following table are available to interested persons as indicated.

Document | ADAMS Accession No./ Federal Register citation
Final Rule: “Changes, Tests, and Experiments,” October 4, 1999 | 64 FR 53582
SECY-99-130, “Revisions to Requirements of 10 CFR Parts 50 and 72 Concerning Changes, Tests, and Experiments,” May 12, 1999 | ML992810140
Staff Requirements Affirmation Session, June 22, 1999 | ML003751724
NEI 12-04, “Guidelines for 10 CFR 72.48 Implementation,” Revision 2, September 2018 | ML18250A255
NEI 96-07, Appendix B, “Guidelines for 10 CFR 72.48 Implementation,” March 5, 2001 | ML010670023
Regulatory Guide 3.72, “Guidance for Implementation of 10 CFR 72.48, Changes, Tests, and Experiments,” Revision 1, September 2020 | ML20220A185
Enforcement Guidance Memorandum (EGM) 25-001, “Enforcement Guidance for Dispositioning Noncompliances Related to a General Licensee's Use of Certain Non-qualified Spent Fuel Casks,” February 11, 2025 | ML24303A436
NRC Enforcement Policy, August 12, 2025 | ML25224A097
Principles of Good Regulation, April 6, 1990 | ML15083A026
Proposed Interim Enforcement Policy for Comment, April 7, 2025 | 90 FR 14917
Public Comment Submission #1, Rodney McCullum on behalf of Nuclear Energy Institute, April 25, 2025 | ML25118A058
Public Comment Submission #2, Wayne A. Norton on behalf of Decommissioning Plant Coalition on PR-72, April 29, 2025 | ML25122A203

The text of the Interim Enforcement Policy is attached.

Dated: August 13, 2025.
For the Nuclear Regulatory Commission.
Carrie Safford,
Secretary of the Commission.

Attachment—Interim Enforcement Policy—Section 9.4, Enforcement Discretion for General Licensee Adoption of CoC Holder-Generated Changes Under 10 CFR 72.48

Interim Enforcement Policy—Section 9.4, Enforcement Discretion for General Licensee Adoption of CoC Holder-Generated Changes Under 10 CFR 72.48

9.4 Enforcement Discretion for General Licensee Adoption of Certificate of Compliance Holder-Generated Changes Under 10 CFR 72.48

This section sets forth the Interim Enforcement Policy (IEP) that the NRC will use to exercise discretion for the disposition of violations involving a General Licensee's (GL's) adoption of a Certificate of Compliance (CoC) holder-generated change made under the CoC holder's change authority of Section 72.48 of title 10 of the Code of Federal Regulations (10 CFR), “Changes, tests, and experiments.” The current NRC regulations state:

• 10 CFR 72.212, “Conditions of general license issued under 10 CFR 72.210,” in a number of regulatory provisions, such as 72.212(a)(2), 72.212(b)(3), 72.212(b)(5)(i), and 72.212(b)(11), requires a GL to ensure it uses casks that conform to the terms, conditions and specifications of a CoC listed in 10 CFR 72.214, “List of approved spent fuel storage casks.”

• 10 CFR 72.212(b)(5) requires that the GL, before use and before applying changes authorized by an amended CoC to a cask loaded under the initial CoC or an earlier amended CoC, perform written evaluations to establish that the storage cask, once loaded, will conform to terms and conditions of the CoC.

• 10 CFR 72.212(b)(6) requires that the GL review, and document the review of, the Safety Analysis Report referenced in the CoC or amended CoC and the related NRC Safety Evaluation Report, to determine whether or not the reactor site parameters are enveloped by the cask design bases considered in these reports.

• 10 CFR 72.212(b)(7) requires the GL to evaluate any changes to written evaluations required by paragraphs (b)(5) and (6) of 10 CFR 72.212, using the requirements of 10 CFR 72.48(c).

• 10 CFR 72.48, as published on October 4, 1999 (64 FR 53582) and amended on February 26, 2001 (66 FR 11527), has provisions under which general and specific licensees and CoC holders may make changes to the facility or spent fuel storage cask design as described in the Final Safety Analysis Report without obtaining NRC review and approval. Change means a modification or addition to, or removal from, the facility or spent fuel storage cask design or procedures that affects a design function, method of performing or controlling the function, or an evaluation that demonstrates that intended functions will be accomplished.

Under the current NRC regulations, if a GL chooses to adopt a change the CoC holder made pursuant to a CoC holder's change authority under 10 CFR 72.48 (referred to herein as a “CoC holder-generated change”), a GL must perform a separate review using the requirements of 10 CFR 72.48(c). This is in addition to the requirement that the GL evaluate any additional resulting site-specific, technical changes the GL makes to written evaluations required by paragraphs (b)(5) and (6) of 10 CFR 72.212 using the requirements of 10 CFR 72.48(c), when adopting the CoC holder's change. Further, the GL is required, by various provisions of 10 CFR 72.212, to only use casks that conform to the terms, conditions and specifications of a CoC listed in 10 CFR 72.214.

Accordingly, when a GL chooses to adopt a CoC holder-generated change, and that change results in a non-conforming cask, there is a violation of 10 CFR 72.48 and certain provisions of 10 CFR 72.212 by the GL, in addition to a CoC holder violation of 10 CFR 72.48. And, when a GL chooses to adopt a CoC holder-generated change without performing a separate 10 CFR 72.48 analysis, the GL is in violation of 10 CFR 72.48.

Absent this IEP, these requirements could lead to enforcement actions being issued against both the GL's 10 CFR 72.48 program (as well as certain 10 CFR 72.212 violations) and CoC holder's 10 CFR 72.48 program for changes that originated with the CoC holder. The NRC has concluded that this enforcement approach would be inconsistent with efficiency, which is one of the NRC's Principles of Good Regulation, and NRC's mission of efficient and reliable oversight.

The NRC staff will review the regulations in 10 CFR part 72, “Licensing Requirements for the Independent Storage of Spent Nuclear Fuel, High-Level Radioactive Waste, and Reactor-Related Greater Than Class C Waste,” and guidance documents to determine what changes are needed to focus requirements on the entity that initiated the change. Until such time as regulatory changes are developed, the Interim Enforcement Policy will be:

(1) The NRC will exercise enforcement discretion and not issue an enforcement action to a GL, for a noncompliance with the requirements of paragraphs (c)(1) and (2) and (d)(1) of 10 CFR 72.48 and with provisions of 10 CFR 72.212 that require GLs to ensure use of casks that conform to the terms, conditions and specifications of a CoC listed in 10 CFR 72.214, when the noncompliance results from a CoC holder's failure to comply with 10 CFR 72.48 for a CoC holder-generated change. In granting this discretion, the GL will be expected to come into compliance with the 10 CFR 72.212 provisions that require each cask to conform to the terms, conditions, and specifications of a CoC or an amended CoC listed in § 72.214 using established processes after NRC disposition of the noncompliance for a CoC holder-generated change. The NRC staff will monitor the GL's actions to determine if additional regulatory actions will be necessary.

(2) The NRC will exercise enforcement discretion and not issue an enforcement action to the GL for failure to perform a 10 CFR 72.48 screening and/or evaluation when the GL adopts a CoC holder-generated change. Enforcement discretion does not apply to CoC holder-generated changes that result in the GL making a change to the site-specific, technical aspects of the GL's 10 CFR 72.212 report.

(3) When the GL adopts a CoC holder-generated change and the accompanying 10 CFR 72.48 screening and/or evaluation that was performed by the CoC holder, the GL does not have to perform a separate 10 CFR 72.48 evaluation of CoC holder-generated changes. The GL only needs to review the CoC holder's change for applicability to their spent fuel storage cask and for impact on the site-specific, technical evaluations and analyses described in the 10 CFR 72.212 report, and site programs and procedures. The NRC's inspections of the GL and enforcement actions against the GL will focus on the GL's assessment for the site-specific applicability of the CoC holder-generated change to its spent fuel storage cask.

(4) The GL is responsible for performing written evaluations to establish that the storage cask conforms to terms and conditions of the CoC, in accordance with paragraphs (b)(5) and (6) of 10 CFR 72.212. If the GL chooses to adopt a CoC holder-generated change, the GL does not need to follow the requirements of 10 CFR 72.212(b)(7) unless the GL determines that site-specific, technical changes are needed to the GL's written evaluations required by paragraphs (b)(5) and (b)(6) of 10 CFR 72.212. Additionally, the GL is responsible for ensuring compliance with applicable requirements of Appendix B to 10 CFR part 50, “Quality Assurance Criteria for Nuclear Power Plants and Fuel Reprocessing Plants,” and Subpart G to 10 CFR part 72, “Quality Assurance”; and the GL is responsible for ensuring compliance with 10 CFR 72.48 when making GL-initiated changes.

(5) NRC enforcement actions will focus on the entity that initiated the change. The CoC holder will be accountable for a noncompliance identified within CoC holder-generated 10 CFR 72.48 screenings and/or evaluations of a change made pursuant to the CoC holder's 10 CFR 72.48 change authority. The GL will be accountable for any noncompliance identified either with GL-initiated changes made under 10 CFR 72.48 or with any site-specific, technical changes required by paragraphs (b)(5) and (b)(6) of 10 CFR 72.212.

An enforcement panel is not required to disposition a noncompliance using this discretion; however, each time discretion is granted, an enforcement action number will be assigned to document the use of discretion under this IEP.

This IEP will remain in place until the underlying regulatory issue is dispositioned through rulemaking or other regulatory action.

[FR Doc. 2025-15565 Filed 8-14-25; 8:45 am]

BILLING CODE 7590-01-P